U.S. INTERNATIONAL DEVELOPMENT FINANCE CORPORATION

Sunshine Act Meetings

TIME AND DATE: Friday, February 20, 2026 10:30 a.m. (OPEN Portion) 11:00 a.m. (CLOSED Portion).

PLACE: Offices of the Corporation, Twelfth Floor Board Room, 1100 New York Avenue NW, Washington, DC.

STATUS: Parts of this meeting will be open to the public. The rest of the meeting will be closed to the public.

MATTERS TO BE CONSIDERED:

1. Opening Remarks

2. Public Comment

Further Matters To Be Considered (Closed to the Public 11:00 a.m.)

1. Chairman Opens Meeting

2. CEO's Remarks

3. Project Approvals

4. Report to the Board

• Audit Committee Report

5. Administrative Matters

6. Executive Session

7. Chairman Adjourns Meeting

Attendance at the Open Portion of the Meeting: Members of the public planning to virtually attend the open portion of the Board meeting are asked to register. To attend, present at, or submit a written statement to the Board prior to the virtual public hearing, individuals must register with DFC Corporate Secretary Heather Carroll at corporate.secretary@dfc.gov by 5:00 p.m. EST, Wednesday, February 18, 2026.

CONTACT PERSON FOR MORE INFORMATION: Agenda subject to change. Information on the meeting may be obtained from the Corporate Secretary via email at corporate.secretary@dfc.gov.

Dated: February 13, 2026.
Lisa Wischkaemper,
Administrative Counsel, U.S. International Development Finance Corporation.

[FR Doc. 2026-03160 Filed 2-13-26; 11:15 am]

BILLING CODE 3210-01-P